DEPARTMENT OF ENERGY

Federal Energy Regulatory Commission

[Docket Nos. EC06-46-000, et al.]

Aquila, Inc., et al.; Electric Rate and Corporate Filings

May 30, 2006.

The following filings have been made with the Commission. The filings are listed in ascending order within each docket classification.

1. Aquila, Inc.; Mid-Kansas Electric Company, LLC

[Docket No. EC06-46-000]

Take notice that on March 21, 2006, Aquila, Inc. (Aquila) tendered for filing copies of the proposed accounting entries for the transfer of certain facilities from Aquila to Mid-Kansas Electric Company, LLC under section 203 of the Federal Power Act.

Comment Date: 5 p.m. Eastern Time on June 9, 2006.

2. DTE Energy Trading, Inc. v. Midwest Independent Transmission System Operator, Inc.

[Docket No. EL05-63-004]

Take notice that on May 18, 2006, Midwest Independent Transmission System Operator, Inc. filed a refund report in compliance with the Commission's Orders issued November 29, 2005 and January 6, 2006.

Comment Date: 5 p.m. Eastern Time on June 8, 2006.

3. MidAmerican Energy Company; MidAmerican Energy Company

[Docket Nos. ER96-719-012; ER96-719-014; Docket Nos. ER96-719-006; EL05-59-000]

On May 19, 2006, MidAmerican Energy Company (MidAmerican) submitted for Commission approval in Docket Nos. ER96-719-006 and EL05-59-000 an uncontested offer of settlement. According to MidAmerican, the offer of settlement would dispose of all of the pending issues concerning MidAmerican's Sales Tariff, including its rates under Schedule A of that tariff.

The settlement agreement also constitutes an amendment to the pending compliance filing submitted by MidAmerican on April 3, 2006 in Docket Nos. ER96-719-012 and ER96-719-014.

Comment Date: 5 p.m. Eastern Time on June 12, 2006.

4. The City of Tacoma, a Municipal Electric Utility of the State of Washington, and the City of Seattle, a Municipal Electric Utility of the State of Washington, v. South Columbia Basin Irrigation District, an Electric Utility of the State of Washington, East Columbia Basin Irrigation District, an Electric Utility of the State of Washington, Quincy Columbia Basin Irrigation District, an Electric Utility of the State of Washington, and Grand Coulee Project Hydroelectric Authority, an Electric Utility of the State of Washington

[Docket No. TX06-3-000]

Take notice that on May 18, 2006, the City of Tacoma, Washington, Department of Utilities, Light Division, dba Tacoma Power and the City of Seattle, Washington, City Light Department (the cities) filed an application for Commission Order Directing Interconnections of South Columbia Basin Irrigation District, The East Columbia Irrigation District, Quincy Columbia Basin Irrigation District, and Grand Coulee Project Hydroelectric Authority to their Main Canal and Summer Falls hydroelectric project facilities, pursuant to sections 210 and 212 of the Federal Power Act. The cities also request expedited consideration and waiver of fees.

Comment Date: 5 p.m. Eastern Time on June 19, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-8734 Filed 6-5-06; 8:45 am]

BILLING CODE 6717-01-P